DEPARTMENT OF COMMERCE

Foreign-Trade Zones Board

[B-14-2016]

Foreign-Trade Zone (FTZ) 7—Mayaguez, Puerto Rico; Authorization of Proposed Production Activity; Lilly Del Caribe, Inc., Subzone 7K (Pharmaceutical Products); Carolina and Guayama, Puerto Rico

On March 8, 2016, the Puerto Rico Industrial Development Company, grantee of FTZ 7, submitted a notification of proposed production activity to the FTZ Board on behalf of Lilly Del Caribe, Inc. (Lilly), located within Subzone 7K in Carolina and Guayama, Puerto Rico.

The notification was processed in accordance with the regulations of the FTZ Board (15 CFR part 400), including notice in the Federal Register inviting public comment (81 FR 15681, March 24, 2016). The FTZ Board has determined that no further review of the activity is warranted at this time. The production activity described in the notification is authorized, subject to the FTZ Act and the Board's regulations, including Section 400.14.

Dated: July 6, 2016.
Andrew McGilvray,
Executive Secretary.

[FR Doc. 2016-16464 Filed 7-11-16; 8:45 am]

BILLING CODE 3510-DS-P